INTERNATIONAL TRADE COMMISSION

[Investigation Nos. 701-TA-727 and 731-TA-1695 (Final)]

Disposable Aluminum Containers, Pans, Trays, and Lids From China

Determinations

On the basis of the record ¹ developed in the subject investigations, the United States International Trade Commission (“Commission”) determines, pursuant to the Tariff Act of 1930 (“the Act”), that an industry in the United States is materially injured by reason of imports of disposable aluminum containers, pans, trays, and lids from China, provided for in statistical reporting number 7615.10.7125 of the Harmonized Tariff Schedule of the United States, that have been found by the U.S. Department of Commerce (“Commerce”) to be sold in the United States at less than fair value (“LTFV”) and subsidized by the government of China.2 3

¹ The record is defined in § 207.2(f) of the Commission's Rules of Practice and Procedure (19 CFR 207.2(f)).

² 90 FR 11703, 90 FR 11705 (March 11, 2025).

³ The Commission also finds that imports subject to Commerce's affirmative critical circumstances determinations are not likely to undermine seriously the remedial effect of the countervailing and antidumping duty orders on disposable aluminum containers, pans, trays, and lids from China.

Background

The Commission instituted these investigations effective May 16, 2024, following receipt of petitions filed with the Commission and Commerce by the Aluminum Foil Container Manufacturers Association, Lexington, Kentucky, and its individual members Durable Packaging International, Wheeling, Illinois; D&W Fine Pack, LLC, Wood Dale, Illinois; Handi-Foil Corp., Wheeling, Illinois; Penny Plate, LLC, Fishersville, Virginia; Reynolds Consumer Products, LLC, Lake Forest, Illinois; Shah Foil Products, Inc., Piscataway Township, New Jersey; Smart USA, Inc., Bay Shore, New York; and Trinidad/Benham Corp., Denver, Colorado. The final phase of the investigations was scheduled by the Commission following notification of preliminary determinations by Commerce that imports of disposable aluminum containers, pans, trays, and lids from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on January 8, 2025 (90 FR 1545). The Commission conducted its hearing on March 18, 2025. All persons who requested the opportunity were permitted to participate.

The Commission made these determinations pursuant to §§ 705(b) and 735(b) of the Act (19 U.S.C. 1671d(b) and 19 U.S.C. 1673d(b)). It completed and filed its determinations in these investigations on April 28, 2025. The views of the Commission are contained in USITC Publication 5611 (April 2025), entitled Disposable Aluminum Containers, Pans, Trays, and Lids from China: Investigation Nos. 701-TA-727 and 731-TA-1695 (Final).

By order of the Commission.
Issued: April 28, 2025.
Lisa Barton,
Secretary to the Commission.

[FR Doc. 2025-07598 Filed 4-30-25; 8:45 am]

BILLING CODE 7020-02-P